DEPARTMENT OF COMMERCE

Foreign-Trade Zones Board

[Docket 49-2007]

Foreign-Trade Zone 22 Chicago, Illinois

Application for Subzone: Sony Electronics Inc. (Audio, Video, Communications and Information-Technology Products and Accessories), Romeoville, Illinois

An application has been submitted to the Foreign-Trade Zones Board (the Board) by the Illinois International Port District, grantee of FTZ 22, requesting special-purpose subzone status for the warehousing and distribution facility of Sony Electronics Inc. (Sony), located in Romeoville, Illinois. The application was submitted pursuant to the provisions of the Foreign-Trade Zones Act, as amended (19 U.S.C. 81a-81u), and the regulations of the Board (15 CFR part 400). It was formally filed on December 4, 2007.

The Sony facility (50-150 employees, 25 acres, 562,624 square feet) is located at 99 North Pinnacle Drive, in Romeoville, Illinois. The facility is used for the storage, distribution, packaging, kitting, inspecting, testing and repair of audio, video, communications and information-technology products and accessories.

Zone procedures would exempt Sony from customs duty payments on products that are re-exported. Some 5 percent of the products are re-exported. On its domestic sales, the company would be able to defer duty payments until merchandise is shipped from the facilities and entered for consumption. FTZ designation would further allow Sony to utilize certain customs procedures resulting in increased efficiencies for its logistics and distribution operations. In addition, Sony is requesting authority to choose the duty rates during customs entry procedures that apply to kits and accessory sets, including digital camera and camcorder kits (duty rate ranges from duty-free to 2.1%) for the following imported components: memory sticks, digital still cameras, digital camcorders, refill paper packs, photo printers, DVD players, home theaters and rechargeable battery packs (duty rate ranges from duty-free to 4.5%). The company has also indicated that it will import soft carrying cases (HTS 4202 and 5911, duty rate ranges from 2-17.6%), but that they will be admitted to the zone in privileged foreign status. The request indicates that the savings from FTZ procedures would help improve the facility's international competitiveness.

In accordance with the Board's regulations, a member of the FTZ staff has been appointed examiner to investigate the application and report to the Board.

Public comment is invited from interested parties. Submissions (original and 3 copies) shall be addressed to the Board's Executive Secretary at the address below. The closing period for their receipt is February 11, 2008. Rebuttal comments in response to material submitted during the foregoing period may be submitted during the subsequent 15-day period to February 26, 2008.

A copy of the application and accompanying exhibits will be available for public inspection at each of the following locations:

U.S. Department of Commerce Export Assistance Center, 200 West Adams Street, Suite 2450 Chicago, IL 60606.

Office of the Executive Secretary, Foreign-Trade Zones Board, U.S. Department of Commerce, Room 2111, 1401 Constitution Ave. NW, Washington, DC 20230.

For further information, contact Elizabeth Whiteman at Elizabeth_Whiteman@ita.doc.gov or (202) 482-0473.

Dated: December 4, 2007.
Andrew McGilvray,
Executive Secretary.

[FR Doc. E7-24185 Filed 12-12-07; 8:45 am]

BILLING CODE 3510-DS-S